Title 3—

The President

Executive Order 13278 of December 11, 2002

President's Commission on the United States Postal Service

By the authority vested in me as President by the Constitution and the laws of the United States of America, and to ensure the efficient operation of the United States Postal Service while minimizing the financial exposure of the American taxpayers, it is hereby ordered as follows:

Section 1. Establishment. There is established the President's Commission on the United States Postal Service (Commission).

Sec. 2. Membership. Commission shall be composed of nine members appointed by the President. The President shall designate two members of the Commission to serve as Co-Chairs.

Sec. 3. Mission. (a) The mission of the Commission shall be to examine the state of the United States Postal Service, and to prepare and submit to the President a report articulating a proposed vision for the future of the United States Postal Service and recommending the legislative and administrative reforms needed to ensure the viability of postal services.

(b) In fulfilling its mission, the Commission shall consider the following issues and such other issues relating to the Postal Service as the Commission determines appropriate:

(i) the role of the Postal Service in the 21st century and beyond;

(ii) the flexibility that the Postal Service should have to change prices, control costs, and adjust service in response to financial, competitive, or market pressures;

(iii) the rigidities in cost or service that limit the efficiency of the postal system;

(iv) the ability of the Postal Service, over the long term, to maintain universal mail delivery at affordable rates and cover its unfunded liabilities with minimum exposure to the American taxpayers;

(v) the extent to which postal monopoly restrictions continue to advance the public interest under evolving market conditions, and the extent to which the Postal Service competes with private sector services; and

(vi) the most appropriate governance and oversight structure for the Postal Service.

Sec. 4. Administration. (a) The Department of the Treasury or any organizational entity subject to the direction of the Secretary of the Treasury shall, to the extent permitted by law, provide administrative support and funding for the Commission. The Commission is established within the Department of the Treasury for administrative purposes only.

(b) Members of the Commission shall serve without any compensation for their work on the Commission. Members appointed from among private citizens of the United States, however, while engaged in the work of the Commission, may be allowed travel expenses, including per diem in lieu of subsistence, as authorized by law for persons serving intermittently in Government service (5 U.S.C. 5701-5707), to the extent funds are available.

(c) The Commission shall have a staff headed by an Executive Director.

(d) The Commission, with the concurrence of the Secretary of the Treasury, may establish subcommittees, consisting of Commission members, as appropriate, to aid in its work.

(e) Consistent with such guidance as the President or, on the President's behalf, the Secretary of the Treasury, may provide, the Commission shall exchange information with and obtain advice from Members of Congress; Federal, State, local, and tribal officials; commercial, nonprofit, and residential users of the United States Postal Service; and others, as appropriate, including through public hearings.

(f) Insofar as the Federal Advisory Committee Act, as amended, may apply to the Commission, any functions of the President under that Act, except for those in section 6 of that Act, shall be performed by the Secretary of the Treasury, in accordance with the guidelines that have been issued by the Administrator of General Services.

(g) Nothing in this order shall be construed to impair or otherwise affect the functions of the Director of the Office of Management and Budget relating to budget, administrative, or legislative proposals.

Sec. 5. Report. The Commission shall submit its report, consistent with its mission set forth in section 3 of this order, to the President, through the Secretary of the Treasury, not later than July 31, 2003.

Sec. 6. General Provisions. (a) This order is intended only to improve the internal management of the Federal Government and it is not intended to, and does not create, any right or benefit, substantive or procedural, enforceable at law or in equity by a party against the United States, its departments, agencies, instrumentalities or entities, its officers or employees, or any other person.

(b) The Commission shall terminate 30 days after submitting its report and in no event later than August 30, 2003.

B

THE WHITE HOUSE,

December 11, 2002.

[FR Doc. 02-31624

Filed 12-12-02; 8:45 am]

Billing code 3195-01-P